DEPARTMENT OF THE TREASURY

31 CFR Chapter X

RIN 1506-AB15

Financial Crimes Enforcement Network: Customer Due Diligence Requirements for Financial Institutions; Extension of Comment Period

AGENCY: Financial Crimes Enforcement Network (FinCEN), Treasury.

ACTION: Advance notice of proposed rulemaking; extension of comment period.

SUMMARY: FinCEN is extending the comment period for the referenced Advance Notice of Proposed Rulemaking (ANPRM) it published concerning customer due diligence requirements for financial institutions.

DATES: Written comments on the ANPRM must be received on or before June 11, 2012.

ADDRESSES: Comments may be submitted, identified by Regulatory Identification Number (RIN) 1506-AB15, by any of the following methods:

• Federal E-rulemaking Portal: http://www.regulations.gov. Follow the instructions for submitting comments. Include RIN 1506-AB15 in the submission. Refer to Docket Number FINCEN-2012-0001.

• Mail: FinCEN, P.O. Box 39, Vienna, VA 22183. Include 1506-AB15 in the body of the text. Please submit comments by one method only. All comments submitted in response to this ANPRM will become a matter of public record. Therefore, you should submit only information that you wish to make publicly available.

Inspection of comments: Comments may be inspected, between 10 a.m. and 4 p.m., in the FinCEN reading room in Vienna, VA. Persons wishing to inspect the comments submitted must request an appointment with the Disclosure Officer by telephoning (703) 905-5034 (not a toll free call). In general, FinCEN will make all comments publicly available by posting them on http://www.regulations.gov.

FOR FURTHER INFORMATION CONTACT: FinCEN: Regulatory Policy and Programs Division, Financial Crimes Enforcement Network, (800) 949-2732 and select option 6.

SUPPLEMENTARY INFORMATION: On March 5, 2012, FinCEN issued an ANPRM seeking comments from interested parties on customer due diligence requirements for financial institutions.¹ FinCEN received several comments on the ANPRM, including several requesting that FinCEN extend the deadline for comments in order to allow interested parties more time in which to comment on the specific issues and questions raised in the ANPRM.

¹ See 77 FR 13046 (March 5, 2012), available at http://www.regulations.gov/#!documentDetail;D=FINCEN_FRDOC_0001-0017.

In light of the fact that an extension of the comment period will not impede any imminent rulemaking and will allow additional interested parties to provide comments, FinCEN has determined that it is appropriate in this instance to extend the comment period for an additional thirty (30) days. Thus, comments on the ANPRM may be submitted on or before June 11, 2012.

Dated: May 3, 2012.
Jamal El-Hindi,
Associate Director, Financial Crimes Enforcement Network.

[FR Doc. 2012-11227 Filed 5-9-12; 8:45 am]

BILLING CODE 4810-02-P